ENVIRONMENTAL PROTECTION AGENCY

[EPA-HQ-OEI-2008-0133; FRL-8533-4]

Office of Environmental Information; Announcement of Availability and Comment Period for Revised Enforcement and Compliance and Tribal Identifier Data Standards

AGENCY: Environmental Protection Agency.

ACTION: Notice of data availability & request for comment.

SUMMARY: Notice of availability for a 30 day review and comment period is hereby given for two revised data standards—(1) Enforcement and Compliance Data Standard and (2)Tribal Identifier Data Standard. The Enforcement and Compliance Data Standard identifies and defines the major areas of enforcement and compliance information that could be used for the exchange of data among environmental agencies and other entities. The purpose of the standard is to provide a common lexicon, so that information about functionally similar activities and/or instruments can be stored.

The Tribal Identifier Data Standard specifies the set of tribal names and codes necessary to constitute consistent and unambiguous identification of federally-recognized American Indian and Alaska Native entities. The Tribal Identifier Standard adopted the Bureau of Indian Affairs criteria of tribal entity identification (federally recognized tribes) and is not intended for the identification of geographic, demographic or economic tribal areas. The Bureau of Indian Affairs (BIA), is responsible for maintaining the official list of tribal names and codes according to their established criteria. This standard assists and supports the development of computerized applications that use tribal identifier information.

DATES: Comments must be received on or before March 29, 2008, 30 days after publication in the Federal Register.

ADDRESSES: Submit your comments, identified by Docket ID No. EPA-HQ-OEI-2008-0133, by one of the following methods:

• http://www.regulations.gov Follow the on-line instructions for submitting information.

• E-mail: oei-docket@epa.gov.

• Fax: 202-566-1753.

• Mail: Environmental Protection Agency, EPA Docket Center (EPA/DC), Announcement of Availability and Comment Period for Revised Enforcement and Compliance and Tribal Identifier Data Standards, Mailcode: 28221T, 1200 Pennsylvania Ave., NW., Washington, DC 20460.

Please include a total of four copies.

• Hand Delivery: EPA Docket Center (EPA/DC), EPA West, Room 3334, 1301 Constitution Ave., NW., Washington, DC 20460.

Please include a total of four copies. Such deliveries are only accepted during the Docket's normal hours of operation, and special arrangements should be made for deliveries of boxed information.

Instructions: Direct your comments to Docket ID No. EPA-HQ-OEI-2008-0133. EPA's policy is that all comments received will be included in the public docket without change and may be made available online at http://www.regulations.gov, including any personal information provided, unless it includes information claimed to be Confidential Business Information (CBI) or other information whose disclosure is restricted by statute. Do not submit information that you consider to be CBI or otherwise protected through http://www.regulations.gov or ow-docket@epa.gov. The http://www.regulations.gov Web site is an “anonymous access” system, which means EPA will not know your identity or contact information unless you provide it in the body of your information. If you send an e-mail directly to EPA without going through http://www.regulations.gov your e-mail address will be automatically captured and included as part of the information that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional information about EPA's public docket visit the EPA Docket Center homepage at: http://www.epa.gov/epahome/dockets.htm.

Docket: All documents in the docket are listed in the http://www.regulations.gov index. Although listed in the index, some information is not publicly available, e.g., CBI or other information whose disclosure is restricted by statute. Certain other material, such as copyrighted material, will be publicly available only in hard copy. Publicly available docket materials areavailable either electronically in http://www.regulations.gov or in hard copy at the OEI Docket, EPA/DC, EPA West, Room 3334, 1301 Constitution Ave., NW., Washington, DC. This Docket Facility is open from 8:30 a.m. to 4:30 p.m., Monday through Friday, excluding legal holidays. The telephone number for the Public Reading Room is (202) 566-1744, and the telephone number for the OEI Docket is (202) 566-1752.

FOR FURTHER INFORMATION CONTACT: Dawn Banks, Collection Strategies Division, Office of Environmental Information, U.S. EPA, 1200 Pennsylvania Ave., NW., MC 2822T; Washington, DC 20460; phone (202) 566-0625; fax (202) 566-1639; e-mail: Banks-Waller.Dawn@epa.gov.

SUPPLEMENTARY INFORMATION: Standards are intended for use in environmental data exchanges among States, Tribal entities and U.S. EPA. They are not meant to dictate or limit data an agency chooses to collect for its own internal purposes. Adoption of a data standard should not be interpreted to mean that revisions to databases or information systems are required. What the adoption does mean is that formats for sharing data with Exchange Network (EN) partners will change because the Exchange Network has adopted Shared Schema Components (SSCs) based on the data standards. The SSCs are available on the Exchange Network web site at: http://www.exchangenetwork.net.

The revised data standards are available through the Docket system as indicated above and at http://www.exchangenetwork.net/standards.

Dated: February 20, 2008.
Sara Hisel-McCoy,
Director, Collection Strategies Division.

[FR Doc. E8-3497 Filed 2-22-08; 8:45 am]

BILLING CODE 6560-50-P